DEPARTMENT OF TRANSPORTATION

Research & Innovative Technology Administration

[Docket: OST-2007-26835]

Agency Information Collection; Activity Under OMB Review; Report of Passengers Denied Confirmed Space—BTS Form 251

AGENCY: Research & Innovative Technology Administration (RITA), Bureau of Transportation Statistics (BTS), DOT.

ACTION: Notice.

SUMMARY: In compliance with the Paperwork Reduction Act of 1995, Public Law 104-13, (44 U.S.C. 3501 et seq.) this notice announces that the Information Collection Request, abstracted below, is being forwarded to the Office of Management and Budget for extension of currently approved Report of Passengers Denied Confirmed Space. Earlier, a Federal Register Notice with a 60-day comment period was published on January 19, 2007 (72 FR 2591). The agency did not receive any comments to its previous notice.

DATES: Written comments should be submitted by May 2, 2007.

FOR FURTHER INFORMATION CONTACT: Bernie Stankus, Office of Airline Information, RTS-42, Room 4125, RITA, BTS, 400 Seventh Street, SW., Washington, DC 20590-0001, Telephone Number (202) 366-4387, Fax Number (202) 366-3383 or e-mail bernard.stankus@dot.gov.

Comments: Comments should be sent to OMB at the address that appears below and should identify the associated OMB Approval Number 2138-0018 and Docket 26835.

SUPPLEMENTARY INFORMATION:

OMB Approval No. 2138-0018

Title: Report of Passengers Denied Confirmed Space.

Form No.: BTS Form 251.

Type Of Review: Extension of a currently approved collection.

Respondents: Large certificated and foreign air carriers.

Number of Respondents: 100.

Number of Responses: 400 (annual).

Total Annual Burden: 1,670 hours.

Needs and Uses: BTS Form 251 is a one-page report on the number of passengers denied boarding (voluntarily and involuntarily), whether the bumped passengers were provided alternate transportation and/or compensation, and the amount of the payment. U.S. and foreign air carriers that operate scheduled passenger service with large aircraft (over 60-seats) must submit Form 251. In addition, carriers report data from inbound international flights because the protections of 14 CFR Part 250 Oversales do not apply to these flights. The report allows the Department to monitor the effectiveness of its oversales rule and take enforcement action when necessary. While the involuntarily denied-boarding rate has decrease from 4.38 per 10,000 passengers in 1980 to 1.04 for the nine months ended September 2006, the rate is up from the 0.89 attained for the nine months ended September 2005. The publishing of the carriers' individual denied boarding rates has negated the need for more intrusive regulation. The rate of denied boarding can be examined as a continuing fitness factor. This rate provides an insight into a carrier's customer service policy and its compliance disposition. A rapid sustained increase in the rate of denied boarding often is an indicator of operational difficulty. Because the rate of denied boarding is released quarterly, travelers and travel agents can select carriers with low bumping incidents when booking a trip. This information is available in the Air Travel Consumer Report at: http://airconsumer.ost.dot.gov/reports/index.htm. The Air Travel Consumer Report is also sent to newspapers, magazines, and trade journals. Without Form 251, the Department would be unable to determining the effectiveness of the oversales rule.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Issued in Washington, DC.
Donald W. Bright,
Assistant Director, Airline Information, Bureau of Transportation Statistics.

[FR Doc. E7-6056 Filed 3-30-07; 8:45 am]

BILLING CODE 4910-FE-P